DEPARTMENT OF TRANSPORTATION

Federal Aviation Administration

14 CFR Part 39

[Docket No. 2003-CE-22-AD; Amendment 39-13355; AD 2003-22-07]

RIN 2120-AA64

Airworthiness Directives; Mitsubishi Heavy Industries, Ltd., MU-2B Series Airplanes

AGENCY: Federal Aviation Administration (FAA), DOT.

ACTION: Final rule.

SUMMARY: The FAA is superseding Airworthiness Directive (AD) 97-20-14, which applies to all Mitsubishi Heavy Industries, Ltd. (Mitsubishi) MU-2B series airplanes. AD 97-20-14 currently requires incorporating information into the Limitations Section of the Airplane Flight Manual (AFM) that requires pilot training before flight into known or forecast icing conditions after a certain date. AD 97-20-14 resulted from the Federal Aviation Administration's analysis that the training level of the pilots-in-command (PIC) of the MU-2B series airplanes made it difficult for pilots to recognize adverse operating conditions and operate safely while flying in icing conditions. Since issuance of AD 97-20-14, a new training video has been developed that includes information that is critical to safety of the MU-2B series airplanes. This AD requires you to update the AFM information to require this new video as the mandatory pilot training. We are issuing this AD to decrease the chance of icing-related incidents or accidents of the MU-2B series airplanes due to pilot error.

DATES: This AD becomes effective on December 15, 2003.

ADDRESSES: You may view the AD docket at FAA, Central Region, Office of the Regional Counsel, Attention: Rules Docket No. 2003-CE-22-AD, 901 Locust, Room 506, Kansas City, Missouri 64106. Office hours are 8 a.m. to 4 p.m., Monday through Friday, except Federal holidays.

FOR FURTHER INFORMATION CONTACT: Contact one of the following for questions or more information related to this subject:

—For General Icing Related Questions: Mr. Paul Pellicano, Aerospace Engineer (Icing Specialist), Atlanta Aircraft Certification Office, FAA, One Crown Center, 1895 Phoenix Boulevard, Suite 450, Atlanta, Georgia 30349; telephone: (770) 703-6064; facsimile: (770) 703-6097;

—For Questions Relating to Airplanes on Type Certificate Data Sheet (TCDS) A2PC: Mr. Carl Fountain, Aerospace Engineer, Los Angeles Aircraft Certification Office, FAA, 3960 Paramount Boulevard, Lakewood, California 90712; telephone: (562) 627-5222; facsimile: (562) 627-5228; or

—For Questions Relating to Airplanes on TCDS A10SW: Mr. Werner Koch, Aerospace Engineer, FAA, Airplane Certification Office, 2601 Meacham Boulevard, Fort Worth, Texas 76193-0150; telephone: (817) 222-5133; facsimile: (817) 222-5960.

SUPPLEMENTARY INFORMATION:

Discussion

Has FAA taken any action to this point? Analysis that the training level of the pilots-in-command (PIC) of the MU-2B series airplanes made it difficult for them to recognize adverse operating conditions and operate safely while flying in icing conditions caused FAA to issue AD 97-20-14, Amendment 39-10150 (62 FR 51594, October 2, 1997). AD 97-20-14 currently requires incorporating information into the Limitations Section of the Airplane Flight Manual (AFM) that requires pilot training before further flight into known or forecast icing conditions after a certain date. This AFM limitation consists of the following

On or after November 15, 1997, no person may serve as pilot-in-command (PIC) of a Mitsubishi MU-2B series airplane in a flight into known or forecast icing conditions, unless the PIC has received the following training since the beginning of the 24th calendar month before the scheduled flight: FAA-approved Biennial Icing Awareness Training (IAT), Mitsubishi Training Video No. YET-97336. This eight-hour training became available September 22, 1997, and is provided by Mitsubishi Heavy Industries at no cost, as part of the Mitsubishi Systems Review (MSR) program. To sign up for the planned training schedules or to arrange training at a more convenient time and location, contact Mitsubishi at (972) 980-5001. Training is also available at the Flight Safety International (Houston) and Reese Howell Enterprises training facilities. Mitsubishi will provide pilot logbook endorsements upon the completion of this training. Please note that all operators of the affected airplanes must initiate action to notify and ensure that flight crewmembers are aware of this requirement.

What has happened since AD 97-20-14 to initiate this proposed action? Since issuance of AD 97-20-14, Mitsubishi has developed a new training video, and FAA has determined that it includes information that is critical to the safety of the MU-2B series airplanes. This information includes:

—Procedures to recognize severe icing conditions that may overpower the propeller ice protection system and result in rapid airspeed loss without significant airframe ice accretion;

—Pneumatic deicing boot activation procedures as required by AD 2000-02-25, Amendment 39-11543 (65 FR 5422, February 4, 2000); and

—A clarified definition of icing conditions that is critical for operation of the engine ice protection system.

What is the potential impact if FAA took no action? If the new information is not incorporated into the AFM information as mandatory pilot training, there is an increased chance of icing-related incidents or accidents of the MU-2B series airplanes due to pilot error.

Has FAA taken any action to this point? We issued a proposal to amend part 39 of the Federal Aviation Regulations (14 CFR part 39) to include an AD that would apply to all Mitsubishi MU-2B series airplanes. This proposal was published in the Federal Register as a notice of proposed rulemaking (NPRM) on June 4, 2003 (68 FR 33423). The NPRM proposed to supersede AD 97-20-14 and would require incorporating information into the Limitations Section of the Airplane Flight Manual (AFM) that would require pilot training before further flight into known or forecast icing conditions after a certain date. This AFM limitation would consist of the following:

On or before ______ (6 months after the effective date of this AD), no person may serve as pilot-in-command (PIC) of a Mitsubishi MU-2B series airplane in a flight into known or forecast icing conditions, unless the PIC has received the following training since the beginning of the 24th calendar month before the scheduled flight: FAA-approved Mitsubishi Icing Awareness Training (IAT) video YET-01295. If training mandated by AD 97-20-14 has been received in the 24 months before ______(6 months after the effective date of this AD), then the new training must be done no later than 24 months after the date of the AD 97-20-14 training. This eight-hour training has been available since July 2, 2002, and is provided by Mitsubishi Heavy Industries at no cost, as part of the Mitsubishi Systems Review (MSR) program. To sign up for the planned training schedules or to arrange training at a more convenient time and location, contact Turbine Aircraft Services at (972) 248-3108. Training is also available at the Sim Com and Reese Howell Enterprises training facilities and some local Flight Standards District Offices (FSDOs). Mitsubishi will provide pilot logbook endorsements upon the completion of this training. Please note that all operators of the affected airplanes must initiate action to notify and ensure that flight crewmembers are aware of this requirement.

Comments

Was the public invited to comment? We provided the public the opportunity to participate in the development of this AD. The following presents the comments received on the proposal and FAA's response to each comment:

Comment Issue: Revise the Requirements of the AFM Limitations

What is the commenter's concern? Mitsubishi recommends the following:

—Change reference to the training from 8 hours to approximately 2 hours in length;

—Remove reference to the Mitsubishi Systems Review (MSR) program; and

—Add a list of other organizations that may provide the pilot logbook endorsement to complete the training.

What is FAA's response to the concern? We concur with the commenter and will make these changes in the actual AD portion of the final rule to further clarify the required actions.

Conclusion

What is FAA's final determination on this issue? We have carefully reviewed the available data and determined that air safety and the public interest require adopting the AD as proposed except for the changes discussed above and minor editorial corrections. We have determined that these changes and minor corrections:

—Provide the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 300 airplanes in the U.S. registry.

What is the cost impact of this AD on owners/operators of the affected airplanes? The pilot can accomplish all the work associated with this action. We estimate less than 1 hour to incorporate the information into the AFM and approximately another 2 hours to view the training video.

Compliance Time of This AD

What will be the compliance time of this AD? The compliance time of this AFM incorporation is “within the next 10 days after the effective date of this AD.” The actual viewing of the training video will be incorporated into the current schedule of the video required by AD 97-20-14.

Why is the compliance time presented in calendar time instead of hours time-in-service (TIS)? The unsafe condition described in this AD is not a direct result of airplane design or operation, but is attributed to the expertise and knowledge of the PIC. For this reason, FAA has determined that a compliance time based upon calendar time will be used instead of a certain number of hours TIS.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-CE-22-AD” in your request.

List of Subjects in 14 CFR Part 39

Air transportation, Aircraft, Aviation safety, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 97-20-14, Amendment 39-10150 (62 FR 51594, October 2, 1997), and by adding a new AD to read as follows:

2003-22-07 Mitsubishi Heavy Industries, Ltd.: Amendment 39-13355; Docket No. 2003-CE-22-AD; Supersedes AD 97-20-14, Amendment 39-10150.

When Does This AD Become Effective?

(a) This AD becomes effective on December 15, 2003.

What Other ADs Are Affected by This Action?

(b) This AD supersedes AD 97-20-14, Amendment 39-10150.

What Airplanes Are Affected by This AD?

(c) This AD affects Models MU-2B, MU-2B-10, MU-2B-15, MU-2B-20, MU-2B-25, MU-2B-26, MU-2B-26A, MU-2B-30, MU-2B-35, MU-2B-36, MU-2B-36A, MU-2B-40, and MU-2B-60 airplanes, all serial numbers, that are certificated in any category.

What Is the Unsafe Condition Presented in This AD?

(d) This AD is the result of Mitsubishi developing a new training video that includes information that is critical to safety of the MU-2B series airplanes. The actions specified in this AD are intended to decrease the chance of icing-related incidents or accidents of the MU-2B series airplanes due to pilot error.

What Must I Do To Address This Problem?

(e) To address this problem, you must accomplish the following:

Actions | Compliance | Procedures
Incorporate information into the Limitations Section of the Airplane Flight Manual (AFM) that requires pilot training before further flight into known or forecast icing conditions after a certain date. This AFM limitation consist of the following: “On or before June 15, 2004, no person may serve as pilot-in-command (PIC) of a Mitsubishi MU-2B series airplane in a flight into known or forecast icing conditions, unless the PIC has received the following training since the beginning of the 24th calendar month before the scheduled flight: FAA-approved Mitsubishi Icing Awareness Training (IAT) video YET-01295. If training mandated by AD 97-20-14 has been received in the 24 months before June 15, 2004, then the new training must be done no later than 24 months after the date of the AD 97-20-14 training. This two-hour training has been available since July 2, 2002, and provided by Mitsubishi Heavy Industries at no cost. To sign up for the planned training schedules or to arrange training at a more convenient time and location, contact Turbine Aircraft Services at (972) 248-3108. Training is also available at Sim Com and Reese Howell Enterprises training facilities and some local Flight Standards District Offices (FSDOs). Pilot logbook endorsements are available after completing this training from: Sim Com, Reese Howell Enterprises, Turbine Aircraft Services (TAS), an FAA Aviation Safety Inspector, or other FAA authorized personnel. Please note that all operators of the affected airplanes must initiate action to notify and ensure that flight crewmembers are aware of this requirement” | Do the AFM incorporation within the next 10 days after December 15, 2003 (the effective date of this AD) | The owner/operator holding at least a private pilot certificate as authorized by section 43.7 of the Federal Aviation Regulations (14 CFR 43.7) may accomplish the AFM incorporation requirement of this AD. Make an entry into the aircraft records showing compliance with this portion of the AD in accordance with section 43.9 of the Federal Aviation Regulations (14 CFR 43.9). Inserting a copy of this AD into the Limitations Section of the AFM accomplishes this portion of the AD.

What About Alternative Methods of Compliance?

(f) You may request a different method of compliance or a different compliance time for this AD by following the procedures in 14 CFR 39.13. Send your request to the Manager, Standards Office, Small Airplane Directorate, 901 Locust, Room 301, Kansas City, Missouri 64106; telephone: (816) 329-4110; facsimile: (816) 329-4090.

(1) For information on any already approved alternative methods of compliance, contact Mr. Paul Pellicano, Aerospace Engineer (Icing Specialist), Atlanta Aircraft Certification Office, FAA, One Crown Center, 1895 Phoenix Boulevard, Suite 450, Atlanta, Georgia 30349; telephone: (770) 703-6064; facsimile: (770) 703-6097.

(2) Alternative methods of compliance approved in accordance with AD 97-20-14, which is superseded by this AD, are not approved as alternative methods of compliance with this AD.

Issued in Kansas City, Missouri, on October 23, 2003.
Michael Gallagher,
Manager, Small Airplane Directorate, Aircraft Certification Service.

[FR Doc. 03-27210 Filed 10-28-03; 8:45 am]

BILLING CODE 4910-13-P